DEPARTMENT OF ENERGY

Federal Energy Regulatory Commission

[Docket No. CP04-121-001]

El Paso Natural Gas Company; Notice of Withdrawal of Request for Clarification and/or Rehearing

May 3, 2005.

On June 25, 2004, ConocoPhillips Company (ConocoPhillips) filed a timely request for clarification and/or rehearing of an order issued May 26, 2004 by the Director of the Division of Pipeline Certificates of the Commission's Office of Energy Projects. The Director's Order granted a request by El Paso Natural Gas Company under section 7(b) of the Natural Gas Act to abandon a short segment of pipeline in San Juan County, New Mexico known as the Chaco Plant Discharge Line. On July 26, 2004, the Commission issued an order granting rehearing for further consideration.

On April 12, 2005, ConocoPhillips filed a notice of withdrawal of its request for clarification and/or rehearing. No one filed a motion in opposition to the withdrawal, and the Commission took no action to disallow it. Accordingly, pursuant to Rule 216 of the Commission's Rules of Practice and Procedure, 18 CFR 385.216 (2004), the withdrawal became effective on April 27, 2005, 15 days from the date of filing of the notice of withdrawal.

Magalie R. Salas,
Secretary.

[FR Doc. E5-2254 Filed 5-9-05; 8:45 am]

BILLING CODE 6717-01-P